DEPARTMENT OF COMMERCE

International Trade Administration

[A-533-810]

Stainless Steel Bar From India: Notice of Final Results of Antidumping Duty Administrative Review

AGENCY: Import Administration, International Trade Administration, Department of Commerce.

SUMMARY: On March 7, 2008, the Department of Commerce (“Department”) published the preliminary results of the administrative review of the antidumping duty order on stainless steel bar (“SSB”) from India. This review covers sales of SSB from India with respect to two producers/exporters: D.H. Exports Pvt. Ltd. (“DHE”) and Sunflag Iron & Steel Co. Ltd. (“Sunflag”), during the period February 1, 2006, through January 31, 2007.

We have noted the changes made since the preliminary results in the “Changes Since the Preliminary Results” section, below. The final results are listed below in the “Final Results of Review” section.

DATES: Effective Date: September 9, 2008.

FOR FURTHER INFORMATION CONTACT: Devta Ohri or Scott Holland, AD/CVD Operations, Office 1, Import Administration, International Trade Administration, U.S. Department of Commerce, 14th Street and Constitution Avenue, NW., Washington, DC 20230; telephone (202) 482-3853 and (202) 482-1279, respectively.

SUPPLEMENTARY INFORMATION:

Background

On February 21, 1995, the Department published in the Federal Register the antidumping duty order on SSB from India. See Antidumping Duty Orders: Stainless Steel Bar From Brazil, India and Japan, 60 FR 9661 (February 21, 1995). On February 2, 2007, the Department published a notice in the Federal Register providing an opportunity for interested parties to request an administrative review of this order for the period February 1, 2006, through January 31, 2007. See Antidumping or Countervailing Duty Order, Finding, or Suspended Investigation; Opportunity To Request Administrative Review, 72 FR 5007 (February 2, 2007). The Department published in the Federal Register the preliminary results of this review on March 7, 2008. See Stainless Steel Bar From India: Notice of Preliminary Results and Partial Rescission of Antidumping Duty Administrative Review, 73 FR 12382 (March 7, 2008) (“Preliminary Results”). On March 20, 2008, the Department published a correction notice to the Preliminary Results. See Stainless Steel Bar From India: Notice of Preliminary Results and Partial Rescission of Antidumping Duty Administrative Review, 73 FR 15049 (March 20, 2008).

Following the Preliminary Results, the Department issued two supplemental questionnaires to both DHE and Sunflag. The Department received DHE's responses on March 20, 2008, and April 2, 2008. The Department received Sunflag's responses on April 2, 2008, and July 7, 2008. On June 24, 2008, the Department published a notice extending the deadline for these final results to September 3, 2008. See Stainless Steel Bar From India: Notice of Extension of Time Limit for the Final Results of the 2006-2007 Antidumping Duty Administrative Review, 73 FR 35639 (June 24, 2008).

We invited interested parties to comment on the Preliminary Results. On July 16, 2008, the Petitioners ¹ and DHE submitted case briefs.² In its case brief, DHE requested that the Department consider the purchase order date as the U.S. date of sale, rather than the invoice date. To support this request, DHE provided the Department with unsolicited new information in the form of a revised U.S. sales database containing purchase order dates for its U.S. sales. On July 17, 2008, the Petitioners filed a rebuttal brief. The Petitioners requested that the Department reject and return to DHE the new factual information submitted in its case brief. According to the Petitioners, the Department did not request this new date of sale information and the deadline for the submission of new factual information had passed, as per 19 CFR 351.301(b)(2). On July 17, 2008, the Department rejected DHE's case brief because it contained unsolicited new factual information. See July 17, 2008, Letter from Brandon Farlander to DHE, which is on file in the Central Records Unit (“CRU”) in room 1117 of the main Department building. The Department instructed DHE to re-file its case brief excluding the unsolicited new factual information relating to purchase order date. DHE submitted its revised case brief, excluding the unsolicited new factual information, on July 21, 2008.

¹ Carpenter Technology Corporation, Valbruna Slater Stainless, Inc., Electralloy Corporation, a Division of G.O. Carlson, Inc.

² DHE incorrectly called this submission its “rebuttal brief.”

On July 22, 2008, Sunflag filed a rebuttal brief. On August 8, 2008, the Department rejected Sunflag's July 22, 2008 (dated July 19, 2008) rebuttal brief because it contained unsolicited new factual information relating to certain rent paid to affiliate Ridge Farm Developers. See August 8, 2008, Letter from Brandon Farlander to Sunflag, which is on file in the CRU in room 1117 of the main Department building. The Department instructed Sunflag to re-file its rebuttal brief excluding the unsolicited new factual information. On August 18, 2008, the Department received Sunflag's revised rebuttal brief, excluding the unsolicited new factual information.

Scope of the Order

Imports covered by the order are shipments of SSB. SSB means articles of stainless steel in straight lengths that have been either hot-rolled, forged, turned, cold-drawn, cold-rolled or otherwise cold-finished, or ground, having a uniform solid cross-section along their whole length in the shape of circles, segments of circles, ovals, rectangles (including squares), triangles, hexagons, octagons, or other convex polygons. SSB includes cold-finished SSBs that are turned or ground in straight lengths, whether produced from hot-rolled bar or from straightened and cut rod or wire, and reinforcing bars that have indentations, ribs, grooves, or other deformations produced during the rolling process.

Except as specified above, the term does not include stainless steel semi-finished products, cut-to-length flat-rolled products (i.e., cut-to-length rolled products which if less than 4.75 mm in thickness have a width measuring at least 10 times the thickness, or if 4.75 mm or more in thickness have a width which exceeds 150 mm and measures at least twice the thickness), wire (i.e., cold-formed products in coils, of any uniform solid cross-section along their whole length, which do not conform to the definition of flat-rolled products), and angles, shapes, and sections.

The SSB subject to these reviews is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, our written description of the scope of the order is dispositive.

On May 23, 2005, the Department issued a final scope ruling that SSB manufactured in the United Arab Emirates out of stainless steel wire rod from India is not subject to the scope of this order. See Memorandum from Team to Barbara E. Tillman, “Antidumping Duty Orders on Stainless Steel Bar from India and Stainless Steel Wire Rod from India: Final Scope Ruling,” dated May 23, 2005, which is on file in the Central Records Unit in room 1117 of the main Department building. See also Notice of Scope Rulings, 70 FR 55110 (September 20, 2005).

Period of Review

The period of review (“POR”) is February 1, 2006, through January 31, 2007.

Applicable Statute

Unless otherwise indicated, all statutory citations are to the Tariff Act of 1930, as amended (“the Act”). In addition, all references to the Department of Commerce's regulations are to 19 CFR Part 351.

Analysis of Comments Received

All issues raised in the case and rebuttal briefs by parties to this review are addressed in the September 3, 2008, “Issues and Decision Memorandum for 2006-2007 Antidumping Duty Administrative Review of Stainless Steel Bar from India” (“Decision Memorandum”), which is hereby adopted by this notice. Attached to this notice as an appendix is a list of the issues which parties have raised and to which we have responded in the Decision Memorandum. Parties can find a complete discussion of all issues raised in this review and the corresponding recommendations in this public memorandum, which is on file in the Department's CRU, which is located in room 1117 of the main Department building. In addition, a complete version of the Decision Memorandum can be accessed directly on the Web at http://ia.ita.doc.gov/frn. The paper copy and electronic version of the Decision Memorandum are identical in content.

Changes Since the Preliminary Results

Based on our analysis of comments received, we have made adjustments to the Preliminary Results calculations for DHE and Sunflag. Brief descriptions of the company-specific changes are discussed below.

A. DHE

On March 27, 2008, the Department requested that DHE report the per-unit entered value of subject merchandise that entered into the United States during the POR. DHE submitted this information on April 2, 2008. However, DHE calculated the per-unit entered value by dividing the total entered values for all shipments of subject merchandise during the POR by the sum of the total quantities entered during the POR, i.e., a simple average of all shipments.

For the final results, we have re-calculated the per-unit entered value based upon a ratio of the invoice specific, total entered value, to the total quantity that is reflected on the U.S. Customs Form 7501 documentation supplied by DHE, rather than an average of all shipments. See Final Results Calculation Memorandum for D.H. Exports Pvt. Ltd., dated September 3, 2008.

B. Sunflag

For the final results, we are adjusting Sunflag's general and administrative expense ratio upward to account for rent paid to affiliate Ridge Farm Developers for leased office space. See Final Results Calculation Memorandum for Sunflag Iron & Steel Co. Ltd., dated September 3, 2008 (“Sunflag Final Calculation Memorandum”). We have also increased Sunflag's cost of production by including interest on an unsecured interest-free loan from an affiliate. See Sunflag Final Calculation Memorandum.

Results of the COP Test

Pursuant to section 773(b)(2)(C) of the Act, where less than 20 percent of a respondent's sales of a given product were at prices less than the cost of production (“COP”), we did not disregard any below-cost sales of that product because we determined that the below-cost sales were not made in substantial quantities. Where 20 percent or more of a respondent's sales of a given product during the POR were at prices less than the COP, we determined such sales of that model were made in substantial quantities within an extended period of time in accordance with section 773(b)(2)(B) and (C) of the Act. Because we compared prices to the POR-average COP, we also determined that such sales were not made at prices which would permit recovery of all costs within a reasonable period of time, in accordance with section 773(b)(2)(D) of the Act. In such cases, for both DHE and Sunflag, we disregarded these below-cost sales of a given product and used the remaining sales as the basis for determining NV, in accordance with section 773(b)(1) of the Act.

Final Results of Review

As a final result of our review, we find that the following weighted-average percentage margins exist for the period February 1, 2006, through January 31, 2007:

Exporter/Manufacturer | Weighted-average margin percentage
D.H. Exports Pvt. Ltd. | 10.21
Sunflag Iron & Steel Co. Ltd. | 6.08

Assessment Rates

The Department shall determine, and U.S. Customs and Border Protection (“CBP”) shall assess, antidumping duties on all appropriate entries. For DHE and Sunflag, the Department will issue appropriate assessment instructions directly to CBP 15 days after publication of the final results of review.

Pursuant to 19 CFR 351.212(b)(1), for all sales made by respondents for which they have reported the importer of record and the entered value of the U.S. sales, we have calculated importer-specific assessment rates based on the ratio of the total amount of antidumping duties calculated for the examined sales to the total entered value of those sales. We have used Sunflag's reported entered values for the final results. However, as noted above in the “Changes Since the Preliminary Results” section, we have adjusted DHE's reported entered values.

To determine whether the duty assessment rates were de minimis, in accordance with the requirement set forth in 19 CFR 351.106(c)(2), we calculated importer-specific ad valorem rates based on the Sunflag's entered values and DHE's adjusted entered values. Where the assessment rate is above de minimis, we will instruct CBP to assess duties on all entries of subject merchandise by that importer. Pursuant to 19 CFR 351.106(c)(2), we will instruct CBP to liquidate without regard to antidumping duties any entries for which the assessment rate is de minimis (i.e., less than 0.50 percent).

The Department clarified its “automatic assessment” regulation on May 6, 2003. See Antidumping and Countervailing Duty Proceedings: Assessment of Antidumping Duties, 68 FR 23954 (May 6, 2003). This clarification applies to entries of subject merchandise during the POR produced by the respondent for which it did not know its merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following antidumping duty deposits are effective for all shipments of SSB from India entered, or withdrawn from warehouse, for consumption, effective on or after the publication date of these final results of administrative review, as provided by section 751(a)(1) of the Act: (1) The cash deposit rates for the reviewed company will be the rate listed above (except no cash deposit will be required if a company's weighted-average margin is de minimis); (2) for merchandise exported by manufacturers or exporters not covered in this review but covered in the original less-than-fair-value investigation or a previous review, the cash deposit rate will continue to be the most recent rate published in the final determination or final results for which the manufacturer or exporter received an individual rate; (3) if the exporter is not a firm covered in this review, the previous review, or the original investigation, but the manufacturer is, the cash deposit rate will be the rate established for the most recent period for the manufacturer of the merchandise; and (4) if neither the exporter nor the manufacturer is a firm covered in this or any previous reviews, the cash deposit rate will be 12.45 percent, the “all others” rate established in the less than fair value investigation. See Stainless Steel Bar from India; Final Determination of Sales at Less Than Fair Value, 59 FR 66915 (December 28, 1994). These cash deposit requirements shall remain in effect until publication of the final results of the next administrative review.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Orders

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing these final results of review in accordance with sections 751(a)(1) and 777(i)(1) of the Act.

Dated: September 3, 2008.
David M. Spooner,
Assistant Secretary for Import Administration.

Appendix I

List of Comments in the Decision Memorandum

Comments Relating to D.H. Exports Pvt. Ltd.

Comment 1: Alleged Missing Attachments

Comment 2: Direct Material Costs—Use of Pre-POR Costs

Comments Relating to Sunflag Iron & Steel Co. Ltd.

Comment 3: Sunflag's Ferrochrome Purchases from Affiliate Navbharat Ventures

Comment 4: Rent Sunflag Paid to Affiliate, Ridge Farm Developers, for New Delhi Office

Comment 5: Rent Sunflag Paid to Affiliate, Haryana Television, for Faridabad Office

Comment 6: Adjustment to Interest on Working Capital Loan

Comment 7: Imputed Interest on Unsecured Interest-Free Loan from Affiliate Sunflag Ltd. UK

Comment 8: Home Market Imputed Credit Expenses

[FR Doc. E8-20925 Filed 9-8-08; 8:45 am]

BILLING CODE 3510-DS-P